INTERNATIONAL TRADE COMMISSION

[Investigation No. 731-TA-663 (Third Review)]

Paper Clips From China

Determination

On the basis of the record ¹ developed in the subject five-year review, the United States International Trade Commission (Commission) determines, pursuant to section 751(c) of the Tariff Act of 1930 (19 U.S.C. 1675(c)), that revocation of the antidumping duty order on paper clips from China would be likely to lead to continuation or recurrence of material injury to an industry in the United States within a reasonably foreseeable time.

¹ The record is defined in sec. 207.2(f) of the Commission's Rules of Practice and Procedure (19 CFR 207.2(f)).

Background

The Commission instituted this review on January 3, 2011 (76 F.R. 171) and determined on April 8, 2011, that it would conduct an expedited review.

The Commission transmitted its determination in this review to the Secretary of Commerce on July 12, 2011. The views of the Commission are contained in USITC Publication 4242 (July 2011), entitled Paper Clips from China: Investigation No. 731-TA-663 (Third Review).

By order of the Commission.
Issued: July 14, 2011.
James R. Holbein,
Secretary to the Commission.

[FR Doc. 2011-18087 Filed 7-18-11; 8:45 am]

BILLING CODE 7020-02-P